DEPARTMENT OF LABOR

Employment and Training Administration

[TA-W-39,813B and NAFTA-5176]

Greenwood Mills, Lindale Manufacturing Company, Lindale, Georgia; Dismissal of Application for Reconsideration

Pursuant to 29 CFR 90.18(C) an application for administrative reconsideration was filed with the Director of the Division of Trade Adjustment Assistance for workers at Greenwood Mills, Lindale Manufacturing Co., Lindale, Georgia. The application contained no new substantial information which would bear importantly on the Department's determination. Therefore, dismissal of the application was issued.

TA-W-39,813B and NAFTA-5176

Greenwood Mills, Lindale Manufacturing Company, Lindale, Georgia (January 4, 2002)

Signed at Washington, DC, this 24th day of January, 2002.
Edward A. Tomchick,
Director, Division of Trade Adjustment Assistance.

[FR Doc. 02-2680 Filed 2-4-02; 8:45 am]

BILLING CODE 4510-30-M